NUCLEAR REGULATORY COMMISSION

[Docket No. 040-09067; NRC-2015-0126]

Uranerz Energy Corporation; Nichols Ranch ISR Project

AGENCY: Nuclear Regulatory Commission.

ACTION: Indirect transfer of license; issuance.

SUMMARY: The U.S. Nuclear Regulatory Commission (NRC) issued an Order approving the indirect transfer of license (change of control) for NRC Source and Byproduct Materials License SUA-1597 (SUA-1597), docket number 040-09067, for the Nichols Ranch In Situ Recovery (ISR) Project, from Uranerz Energy Corporation (Uranerz) to Energy Fuels, Inc. (Energy Fuels). The NRC's approval of this action is required by its regulations. This approval allows the companies to merge after an exchange of stock. The current licensee, Uranerz, remains the licensee after the transaction; however, the company is controlled by Energy Fuels.

DATES: The Order was issued on June 18, 2015, and is effective for one year.

ADDRESSES: Please refer to Docket ID NRC-2015-0126 when contacting the NRC about the availability of information regarding this document. You may obtain publicly-available information related to this document using any of the following methods:

• Federal Rulemaking Web site: Go to http://www.regulations.gov and search for Docket ID NRC-2015-0126. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Ron C. Linton, Office of Nuclear Material Safety and Safeguards, U.S. Nuclear Regulatory Commission, Washington, DC 20555; telephone: 301-415-7777; email: Ron.Linton@nrc.gov.

SUPPLEMENTARY INFORMATION:

I. Background

The NRC is providing notice of consent to the indirect transfer (change of control) of SUA-1597. This license authorizes Uranerz to possess uranium and 11.e(2) byproduct materials at its Nichols Ranch ISR Project, which consists of two separate properties known as the Nichols Ranch Unit and the Hank Unit, in Johnson and Campbell Counties, Wyoming. Uranerz is authorized for operations at the Nichols Ranch Unit to produce uranium-laden resins but is not authorized for further processing (elution, precipitation and drying of yellowcake) at the Nichols Ranch Unit or production at the Hank Unit.

By letter dated March 12, 2015, and supplemented on June 5, 2015, Uranerz submitted an application to the NRC requesting approval of the change of control of SUA-1597. The change of control involves a share purchase agreement whereby Energy Fuels will acquire all shares of Uranerz common stock resulting in Uranerz merging with EFR Nevada Corporation, an existing Nevada Corporation and a wholly owned subsidiary of Energy Fuels. The merged corporations will adopt the Uranerz name and Uranerz will remain the licensee for SUA-1597.

The NRC's receipt of the request to take this licensing action was previously noticed on the NRC's public Web site on April 9, 2015, and in the Federal Register on May 22, 2015 (80 FR 29753) with a notice of an opportunity to request a hearing by June 11, 2015. No requests for a hearing and no comments were received.

By Order dated June 18, 2015, the NRC approved the indirect transfer. The Order was accompanied by a Safety Evaluation Report (SER) documenting the basis for the NRC staff's approval. In the SER, the NRC staff has reached the following conclusions: after the transaction, Uranerz and its parent company, Energy Fuels, will remain qualified by reason of training and experience to use source material as to protect health and minimize danger to life or property; equipment, facilities, and procedures will remain adequate to protect health and minimize danger to life or property; and this action is not inimical to the common defense and security or to the health and safety of the public.

These actions comply with the standards and requirements of the Atomic Energy Act of 1954, as amended, and NRC's rules and regulations.

II. Availability of Documents

The documents identified in the following table are available to interested persons through the ADAMS Public Documents collection.

Document | ADAMS Accession No.
Applicant's application, March 12, 2015 | ML15084A286
Supplementary information, June 5, 2015 | ML15160A025
NRC Letter approving change of control, June 18, 2015 | ML15161A464
NRC Order dated June 18, 2015 | ML15161A470
NRC Safety Evaluation Report dated June 18, 2015 | ML15161A486

Dated at Rockville, Maryland, this 16th day of July, 2015.
For the Nuclear Regulatory Commission.
Andrew Persinko,
Deputy Director, Division of Decommissioning, Uranium Recovery, and Waste Programs Office of Nuclear Material Safety and Safeguards.

[FR Doc. 2015-18463 Filed 7-27-15; 8:45 am]

BILLING CODE 7590-01-P